ENVIRONMENTAL PROTECTION AGENCY

40 CFR Part 761

Polychlorinated Biphenyls (PCBs), Manufacturing, Processing, Distribution in Commerce, and Use Prohibitions

CFR Correction

In Title 40 of the Code of Federal Regulations, parts 700 to 789, revised as of July 1, 1999, page 537, part 761, § 761.30 is corrected by reinstating paragraph (j)(4) to read as follows:

§ 761.30 Authorizations.

* * * * *

(j) * * *

(4) No person may manufacture, process, or distribute in commerce PCBs for research and development unless they have been granted an exemption to do so under TSCA section 6(e)(3)(B).

* * * * *

[FR Doc. 00-55501 Filed 2-3-00; 8:45 am]

BILLING CODE 1505-01-D